DEPARTMENT OF ENERGY

Federal Energy Regulatory Commission

[Project No. 13642-003]

GB Energy Park, LLC; Notice of Application Tendered for Filing with the Commission and Soliciting Additional Study Requests

Take notice that the following hydroelectric application has been filed with the Commission and is available for public inspection.

a. Type of Application: Unconstructed Major Project.

b. Project No.: 13642-003.

c. Date filed: October 1, 2015.

d. Applicant: GB Energy Park, LLC.

e. Name of Project: Gordon Butte Pumped Storage Project.

f. Location: Approximately 3 miles west of the City of Martinsdale, Meagher County, Montana. The proposed project would not occupy any federal lands.

g. Filed Pursuant to: Federal Power Act 16 U.S.C. 791(a)-825(r)

h. Applicant Contact: Carl. E. Borgquist, President, GB Energy Park, LLC, 209 Wilson Avenue, P.O. Box 309, Bozeman, MT 59771; (406) 585-3006; carl@absarokaenergy.com.

i. FERC Contact: Mike Tust; (202) 502-6522; michael.tust@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: November 30, 2015.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13642-003.

m. The application is not ready for environmental analysis at this time.

n. The Gordon Butte Pumped Storage Project would consist of the following new facilities: (1) A manually operated head gate on an existing irrigation canal that provides initial fill and annual make-up water to the lower reservoir from the existing irrigation canal; (2) a 3,000-foot-long, 1,000-foot-wide upper reservoir created by a 60-foot-high, 7,500-foot-long concrete-faced rockfill dam; (3) a reinforced concrete intake/outlet structure at the upper reservoir with six gated intake bays converging into a central 18-foot-diameter, 750-foot-long vertical shaft; (4) an 18-foot-diameter, 3,000-foot-long concrete and steel-lined penstock tunnel leading from the upper reservoir to the lower reservoir; (5) a 2,300-foot-long, 1,900-foot-wide lower reservoir created by a combination of excavation and two 60-foot-high, 500- and 750-foot-long concrete-faced rockfill dams; (6) a partially buried 338-foot-long, 109-foot-wide, 74-foot-high reinforced concrete and steel powerhouse with four 100-megawatt (MW) ternary Pelton turbine/pump/generators; (7) a 600-foot-long, 200-foot-wide substation at the powerhouse site with 13.8- kilovolt (kV) to 230-kV step-up transformers; (8) a 5.7-mile-long, 230-kV transmission line; (9) a substation with a 230-kV to 500-kV step-up transformer, connecting to an existing non-project 500-kV transmission line; and (11) appurtenant facilities. The project is estimated to provide 1,300 gigawatt-hours annually. No federal lands are included in the project.

o. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

p. Procedural schedule: The application will be processed according to the following preliminary Hydro Licensing Schedule. Revisions to the schedule will be made as appropriate.

Issue Acceptance or Deficiency Letter (if needed) | November 2015.
Request for Additional Information | November 2015.
Issue Notice of Acceptance/Notice of Ready for Environmental Analysis | January 2016.
Commission Issues EA | July 2016.
Comments on EA | August 2016.

Dated: October 14, 2015.
Kimberly D. Bose,
Secretary.

[FR Doc. 2015-26544 Filed 10-19-15; 8:45 am]

BILLING CODE 6717-01-P